DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by the party listed below.

DATES: All comments on the petition must be received by MSHA's Office of Standards, Regulations, and Variances on or before March 14, 2024.

ADDRESSES: You may submit comments identified by Docket No. MSHA-2023-0056 by any of the following methods:

1. Federal eRulemaking Portal: https://www.regulations.gov. Follow the instructions for submitting comments for MSHA-2023-0056.

2. Fax: 202-693-9441.

3. Email: petitioncomments@dol.gov.

4. Regular Mail or Hand Delivery: MSHA, Office of Standards, Regulations, and Variances, 201 12th Street South, 4th Floor West, Arlington, Virginia 22202-5452, Attention: S. Aromie Noe, Director, Office of Standards, Regulations, and Variances. Persons delivering documents are required to check in at the receptionist's desk in 4th Floor West. Individuals may inspect copies of the petition and comments during normal business hours at the address listed above. Before visiting MSHA in person, call 202-693-9455 to make an appointment, in keeping with the Department of Labor's COVID-19 policy. Special health precautions may be required.

FOR FURTHER INFORMATION CONTACT: S. Aromie Noe, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2023-027-C.

Petitioner: Mountain Coal Company, LLC, 5174 Highway 133, Somerset, Colorado 81434.

Mine: West Elk Mine, MSHA ID No. 05-03672, located in Gunnison County, Colorado.

Regulation Affected: 30 CFR 18.35(a)(5)(i) (Portable (trailing) cables and cords).

Modification Request: The petitioner requests a modification of 30 CFR 18.35(a)(5)(i) to increase the length of tailing cables to a maximum of 1,100 feet for mobile roof support machines and shuttle cars.

The petitioner states that:

(a) The petitioner has a previously granted petition for modification, docket number M-2012-036-C, to use trailing cables supplying three-phase, 995-volt AC power to continuous machines, roof bolting machines, and auxiliary face fans and 575-volt AC power to roof bolting machines and auxiliary face fans.

(b) The petitioner is now requesting to add four Fletcher Mobile Roof Support machines, model MRS17, and Komatsu 10SC32 shuttle cars. The Fletcher Mobile Roof Support machines and Komatsu 10SC32 shuttle cars will be used under the same terms and conditions listed in the previously granted petition.

The petitioner proposes the following alternative method:

(a) The maximum trailing cable length shall be 1,100 feet for the No. 4 trailing cables for the mobile roof support machines and the No. 2 trailing cables for the shuttle cars.

(c) All circuit breakers used to protect the No. 4 trailing cables exceeding 1,000 feet for the 995-volt mobile roof support machines shall have instantaneous trip units calibrated to trip at 2,500 amperes. The trip setting of these circuit breakers shall be sealed or locked so that the setting cannot be changed. The circuit breakers shall have permanent legible labels displaying the maximum short circuit setting. Calibration, sealing, and labeling of circuit breakers shall be performed by the circuit breaker manufacturer, or an authorized repair facility outfitted with calibrated test equipment. Each label shall identify the circuit breaker as being suitable for protecting the No. 4 cables. The labels shall be maintained as legible.

(c) Replacement instantaneous trip units used to protect the No. 4 trailing cables shall be calibrated to trip at 2,500 amperes and this setting shall be sealed or locked. Calibration, sealing, and labeling of the replacement units shall be conducted by the device manufacturer, or an authorized repair facility outfitted with calibrated test equipment.

(d) All circuit breakers used to protect the No. 2 trailing cables exceeding 850 feet in length for the shuttle cars shall have instantaneous trip units calibrated to trip at 1,500 amperes. The trip setting of these circuit breakers shall be sealed or locked so that the setting cannot be changed. The circuit breakers shall have permanent legible labels displaying the maximum short circuit setting. Calibration, sealing, and labeling of circuit breakers shall be performed by the circuit breaker manufacturer, or an authorized repair facility outfitted with calibrated test equipment. Each label shall identify the circuit breaker as being suitable for protecting the No. 2 cables. The labels shall be maintained as legible.

(e) Replacement instantaneous trip units used to protect the No. 2 trailing cables shall be calibrated to trip at 1,500 amperes and this setting shall be sealed or locked. Calibration, sealing, and labeling of the replacement units shall be conducted by the device manufacturer, or an authorized repair facility outfitted with calibrated test equipment.

(f) All components that provide short-circuit protection shall have a sufficient interruption rating in accordance with the maximum calculated fault current available.

(g) The trailing cables for the mobile roof support machines and shuttle cars shall be protected by being hung on well-installed insulated hangers from the section transformer to the slack pile of the trailing cable for each machine or to the last open crosscut, whichever is further outby.

(h) Prior to putting the mobile roof support machines and shuttle cars in service for each shift, examinations by persons designated by the mine operator shall be made to visually examine the trailing cables to ensure that the cables are in safe operating condition. The instantaneous settings of the specially calibrated circuit breakers shall also be visually examined to ensure that the seals or locks have not been removed and that they do not exceed the settings stipulated in items (b) and (d).

(i) Permanent warning labels shall be installed and maintained on the cover(s) of each circuit breaker and the trailing cable disconnecting device indicating that the cable can only be connected to a circuit breaker that is set to trip at its pre-determined instantaneous value. These labels shall warn miners not to change or alter these sealed short-circuit settings and warn them not to connect the trailing cable to an improperly adjusted circuit breaker.

(j) Any trailing cable that is not in safe operating condition or damaged in any way shall be removed from service immediately and repaired or replaced. Each splice or repair in the trailing cables shall be made in a workmanlike manner and in accordance with the instructions of the manufacturer of the splice or repair materials. The splice or repair shall comply with 30 CFR 75.602 and 30 CFR 75.604.

(k) Excessive cable shall be stored behind the anchor(s) on equipment that use cable reels to prevent cable(s) from overheating. Trailing cables anchoring points located along haulage roads, belt tailpiece, or feeder shall be arranged to prevent the shuttle cars from running over their trailing cables to minimize the need for secondary (temporary) trailing cable anchoring points and minimize back spooling.

(l) Before implementation of the terms and conditions in MSHA's Proposed Decision and Order (PDO), all miners who have been designated to examine the integrity of seals or locks and to verify the short-circuit settings and proper procedures for examining trailing cables for defects and damage shall receive the training specified in item (n).

(m) Before implementation of the terms and conditions in the PDO, the circuit breakers outlined above shall be inspected by MSHA to ensure their conformity with the terms and conditions of the PDO.

(n) Within 60 days after the PDO becomes final, the petitioner shall submit proposed revisions for its approved 30 CFR part 48 training plan to the Mine Safety and Health Enforcement District Office for the District which the mine is located. The training shall include the following elements:

(1) Training in the mining methods and operating procedures that will protect the trailing cables against damage;

(2) Training in proper procedures for examining the trailing cables to ensure that they are in safe operating condition;

(3) Training in the hazards of setting the short circuit interrupting device(s) too high to adequately protect the trailing cables;

(4) Training in how to verify that the circuit interrupting device(s) protecting the trailing cable(s) are properly set and maintained; and

(5) Training to protect the trailing cable(s) against damage caused by overheating due to excessive cable stored on the cable reel(s) and properly adjusting stored cable behind the cable anchor(s) as tramming distances change.

In support of the proposed alternative method, the petitioner submitted fault analysis for 1,100 feet of the No. 4 and No. 2 trailing cables to demonstrate that there is enough current available to trip the short circuit protection at the time of a fault.

The petitioner asserts that the alternate method proposed will at all times guarantee no less than the same measure of protection afforded the miners under the mandatory standard.

Song-ae Aromie Noe,
Director, Office of Standards, Regulations, and Variances.

[FR Doc. 2024-02931 Filed 2-12-24; 8:45 am]

BILLING CODE 4520-43-P